DEPARTMENT OF COMMERCE

International Trade Administration

[A-533-810]

Notice of Initiation and Preliminary Results of Changed Circumstances Antidumping Duty Review: Stainless Steel Bar from India

AGENCY: Import Administration, International Trade Administration, Department of Commerce.

SUMMARY: The Department of Commerce (“Department”) received a request for initiation of a changed circumstances review of the antidumping duty order on stainless steel bar (“SSB”) from India from India Steel Works Limited (“India Steel”). After reviewing this request, we preliminarily determine that India Steel is the successor-in-interest to Isibars Limited (“Isibars”), and as a result, should be accorded the same treatment previously accorded Isibars with regard to the antidumping duty order on SSB from India. Interested parties are invited to comment on these preliminary results.

EFFECTIVE DATE: September 25, 2008.

FOR FURTHER INFORMATION CONTACT: Cory Hervey or Devta Ohri, AD/CVD Operations, Office 1, Import Administration, International Trade Administration, U.S. Department of Commerce, 14th Street and Constitution Avenue, NW, Washington, DC 20230; telephone: (202) 482-1664 and (202) 482-3853, respectively.

SUPPLEMENTARY INFORMATION:

Background

On February 21, 1995, the Department of Commerce (“Department”) published in the Federal Register the antidumping duty order on SSB from India. See Antidumping Duty Orders: Stainless Steel Bar form Brazil, India and Japan, 60 FR 9661 (February 21, 1995). On August 4, 2008, India Steel requested that the Department initiate a changed circumstances review of this order to determine that, for purposes of the antidumping law, India Steel is the successor-in-interest to Isibars. See August 4, 2008, letter from India Steel.

Isibars was a producer and exporter of SSB from India. The last review that Isibars participated in covered the period February 1, 2005, through January 31, 2006. As a result of this review, Isibars received a cash deposit rate of 2.01 percent. See Notice of Final Results and Final Partial Rescission of Antidumping Duty Administrative Review: Stainless Steel Bar from India, 72 FR 51595 (September 10, 2007).

Scope of the Review

Imports covered by the order are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of this order. See Memorandum from Team to Barbara E. Tillman, “Antidumping Duty Orders on Stainless Steel Bar from India and Stainless Steel Wire Rod from India: Final Scope Ruling,” dated May 23, 2005, which is on file in the Central Records Unit in room 1117 of the main Department building. See also Notice of Scope Rulings, 70 FR 55110 (September 20, 2005).

Initiation and Preliminary Results of Changed Circumstances Review

Pursuant to section 751(b)(1) of the Tariff Act of 1930, as amended (“the Act”), and 19 CFR 351.216, the Department will conduct a changed circumstances review upon receipt of information concerning, or a request from an interested party for review of, an antidumping duty order which shows changed circumstances sufficient to warrant a review of the order. In this case, the Department finds that the evidence submitted showing that a name change took place, along with the additional supporting documentation concerning India Steel's management, production facilities, supplier relationships, and customer base (see August 4, 2008, letter from India Steel) provides sufficient evidence of changed circumstances to warrant a review. Thus, in accordance with section 751(b) of the Act, the Department is initiating a changed circumstances review to determine whether India Steel is the successor-in-interest to Isibars for purposes of determining antidumping duty liability with respect to imports of SSB from India.

Furthermore, 19 CFR 351.221(c)(3)(ii) permits the Department to combine the notice of initiation of a changed circumstances review and the notice of preliminary results in a single notice if the Department concludes that expedited action is warranted. As explained below, in this case, we find that the evidence provided by India Steel is sufficient to preliminarily determine that India Steel is a successor-in-interest to Isibars.

In making a successor-in-interest determination, the Department examines several factors including, but not limited to, changes in: (1) management; (2) production facilities; (3) supplier relationships; and (4) customer base. See, e.g., Notice of Final Results of Changed Circumstances Antidumping Duty Administrative Review: Polychloroprene Rubber From Japan, 67 FR 58 (January 2, 2002); Brass Sheet and Strip from Canada: Final Results of Antidumping Duty Administrative Review, 57 FR 20460, 20462 (May 13, 1992). While no single factor or combination of factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (March 1, 1999); Industrial Phosphoric Acid from Israel; Final Results of Changed Circumstances Review, 59 FR 6944 (February 14, 1994). Thus, if the record evidence demonstrates that, with respect to the production and sale of the subject merchandise, the new company operates as the same business entity as the predecessor company, the Department may assign the new company the cash deposit rate of its predecessor. See, e.g., Fresh and Chilled Atlantic Salmon from Norway: Final Results of Changed Circumstances Antidumping Duty Administrative Review, 64 FR 9979, 9980 (March 1, 1999).

In accordance with 19 CFR 351.221(c)(3)(ii), we preliminarily determine that India Steel is the successor-in-interest to Isibars. In its August 4, 2008, submission, India Steel provided evidence supporting its claim to be the successor-in-interest to Isibars. The documentation attached to India Steel's August 4, 2008, submission shows that the change of corporate name from Isibars Limited to India Steel Works Limited resulted in little or no change in management, production facilities, supplier relationships, or customer base. This documentation consists of:

(1) the minutes of a September 29, 2007, General Meeting showing the name change was voted upon and approved unanimously;

(2) a certified copy of a “Fresh Certificate of Incorporation Consequent upon Change of Name,” dated October 22, 2007, issued by the Government of India, which shows the name change;

(3) a list of the stockholders and board of directors before and after the name change, showing that they are identical;

(4) an organizational chart before and after the name change showing India Steel has the same organization structure as Isibars;

(5) lists of suppliers and customers before and after the name change indicating that they are identical;

(6) samples of letters and e mails sent to customers announcing the name change;

(7) documentation demonstrating that India Steel has the same taxpayer identification number (called the “permanent account number” in India) as Isibars;

(8) a detailed description of the production facilities that existed before and after the name change indicating that India Steel has the same production facilities as Isibars;

(9) documentation demonstrating that India Steel maintains the same bank account as Isibars; and

(10) certificates of importer and exporter codes for Isibars and India Steel, issued by the Government of India, showing that the codes are identical before and after the name change.

In sum, India Steel has presented evidence to establish a prima facie case of its successorship status. Isibars's name change to India Steel has not changed the operations of the company in a meaningful way. India Steel's management, production facilities, supplier relationships, and customer base are substantially unchanged from those of Isibars. The record evidence demonstrates that the new entity essentially operates in the same manner as the predecessor company. Consequently, we preliminarily determine that India Steel should be assigned the same antidumping duty treatment as Isibars, i.e., a 2.01 percent antidumping duty cash deposit rate. See Notice of Final Results and Final Partial Rescission of Antidumping Duty Administrative Review: Stainless Steel Bar from India, 72 FR 51595 (September 10, 2007).

The cash deposit determination from this changed circumstances review will apply to all entries of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the next administrative review in which India Steel is reviewed.

Public Comment

Interested parties are invited to comment on these preliminary results. Written comments may be submitted no later than 14 days after the date of publication of these preliminary results. Rebuttals to written comments, limited to issues raised in such comments, may be filed no later than 21 days after the date of publication. The Department will issue the final results of this changed circumstances review, which will include the results of its analysis raised in any such written comments, no later than 270 days after the date on which this review was initiated, or within 45 days if all parties agree to our preliminary results. See 19 CFR 351.216(e).

This notice is published in accordance with sections 751(b)(1) and 777(i) of the Act and 19 CFR 351.216, and 351.221.

Dated: September 18, 2008.
David M. Spooner,
Assistant Secretary for Import Administration.

[FR Doc. E8-22552 Filed 9-24-08; 8:45 am]

BILLING CODE 3510-DS-S